FEDERAL RETIREMENT THRIFT INVESTMENT BOARD

Notice of Board Meeting

DATES: February 24, 2026 at 11:00 a.m. ET

ADDRESSES: Telephonic. Dial-in (listen only) information: Number: 1-202-599-1426, Code: 771 202 863#; or via web: https://www.frtib.gov/.

FOR FURTHER INFORMATION CONTACT: James Kaplan, Director, Office of External Affairs, (202) 864-7150.

SUPPLEMENTARY INFORMATION:

Board Meeting Agenda

Open Session

1. Approval of the January 27, 2026, Board Meeting Minutes

2. Monthly Reports

(a) Participant Report

(b) Investment Report

(c) Legislative Report

3. Quarterly Reports

(d) Metrics

4. Enterprise Risk Management Update

Authority: 5 U.S.C. 552b (e)(1).

Dated: February 11, 2026.
Dharmesh Vashee,
General Counsel, Federal Retirement Thrift Investment Board.

[FR Doc. 2026-02963 Filed 2-12-26; 8:45 am]

BILLING CODE P